ENVIRONMENTAL PROTECTION AGENCY

40 CFR Part 52

[CA231-0227a; FRL-6570-9]

Approval and Promulgation of Implementation Plans; California State Implementation Plan Revision, Antelope Valley Air Pollution Control District and Mojave Desert Air Quality Management District

AGENCY: Environmental Protection Agency (EPA).

ACTION: Direct final rule.

SUMMARY: EPA is taking direct final action on revisions to the California State Implementation Plan. The revisions concern rules from the Antelope Valley Air Pollution Control District (AVAPCD) and the Mojave Desert Air Quality Management District (MDAQMD). This approval action will incorporate these rules into the federally approved SIP. The intended effect of approving these rules is to regulate emissions of volatile organic compounds (VOCs) in accordance with the requirements of the Clean Air Act, as amended in 1990 (CAA or the Act). The revised rules control VOC emissions from Automotive Refinishing Operations and Motor Vehicle and Mobile Equipment Coatings Operations. Thus, EPA is finalizing the approval of these revisions into the California SIP under provisions of the CAA regarding EPA action on SIP submittals, SIPs for national primary and secondary ambient air quality standards and plan requirements for nonattainment areas.

DATES: This rule is effective on June 9, 2000 without further notice, unless EPA receives adverse comments by May 10, 2000. If EPA receives such comment, it will publish a timely withdrawal in the Federal Register informing the public that this rule will not take effect.

ADDRESSES: Written comments must be submitted to Andrew Steckel, Chief, Rulemaking Office at the Region IX office listed below. Copies of the rule revisions and EPA's technical support document for each rule are available for public inspection at EPA's Region IX office during normal business hours. Copies of the submitted rule revisions are available for inspection at the following locations:

Rulemaking Office (AIR-4), Air Division, U.S. Environmental Protection Agency, Region IX, 75 Hawthorne Street, San Francisco, CA 94105;

Environmental Protection Agency, Ariel Rios Building, (Mail Code 6102), 1200 Pennsylvania Avenue, N.W., Washington, D.C. 20460;

California Air Resources Board, Stationary Source Division, Rule Evaluation Section, 2020 “L” Street, Sacramento, CA 95812;

Antelope Valley Air Pollution Control District, 43301 Division Street, Suite 206, Lancaster, CA 93539-4409;

Mojave Desert Air Quality Management District (formerly San Bernardino County Air Pollution Control District), 15428 Civic Drive, Suite 200, Victorville, CA 92392-2382

FOR FURTHER INFORMATION CONTACT: Julie A. Rose, Rulemaking Office, AIR-4, Air Division, U.S. Environmental Protection Agency, Region IX, 75 Hawthorne Street, San Francisco, CA 94105, Telephone: (415) 744-1184.

SUPPLEMENTARY INFORMATION:

I. Applicability

The rules being approved into the California SIP include: Antelope Valley Air Pollution Control District (AVAPCD) Rule 1151, Motor Vehicle and Mobile Equipment Coatings Operations and Mojave Desert Air Quality Management District (MDAQMD) Rule 1116, Automotive Refinishing Operations. These rules were submitted by the California Air Resources Board to EPA on October 29, 1999 and July 23, 1999, respectively.

II. Background

On March 3, 1978, EPA promulgated a list of ozone nonattainment areas under the provisions of the Clean Air Act, as amended in 1977 (1977 Act or pre-amended Act), that included the portions of the San Bernardino County Air Pollution Control District ¹ within the Southeast Desert Modified Air Quality Maintenance Area and the Los Angeles-South Coast Air Basin Area. 43 FR 8964, 40 CFR 81.305. On May 26, 1988, EPA notified the Governor of California, pursuant to section 110(a)(2)(H) of the 1977 Act, that the above districts' portions of the California SIP were inadequate to attain and maintain the ozone standard and requested that deficiencies in the existing SIP be corrected (EPA's SIP-Call). On November 15, 1990, the Clean Air Act Amendments of 1990 were enacted. Public Law 101-549, 104 Stat. 2399, codified at 42 U.S.C. 7401-7671q. In amended section 182(a)(2)(A) of the CAA, Congress statutorily adopted the requirement that nonattainment areas fix their deficient reasonably available control technology (RACT) rules for ozone and established a deadline of May 15, 1991 for states to submit corrections of those deficiencies.

¹ On July 1, 1993, the San Bernardino County Air Pollution Control District was renamed the Mojave Desert Air Quality Management District.

Section 182(a)(2)(A) applies to areas designated as nonattainment prior to enactment of the amendments and classified as marginal or above as of the date of enactment. It requires such areas to adopt and correct RACT rules pursuant to pre-amended section 172 (b) as interpreted in pre-amendment guidance.² EPA's SIP-Call used that guidance to indicate the necessary corrections for specific nonattainment areas.

² Among other things, the pre-amendment guidance consists of those portions of the proposed Post-1987 ozone and carbon monoxide policy that concern RACT, 52 FR 45044 (November 24, 1987); “Issues Relating to VOC Regulation Cutpoints, Deficiencies, and Deviations, Clarification to Appendix D of November 24, 1987 Federal Register document” (Blue Book) (notice of availability was published in the Federal Register on May 25, 1988); and the existing control technique guidelines (CTGs).

The AVAPCD portion of the Southeast Desert Modified Air Quality Maintenance Area (SDMAQMA) is classified as Severe-17, therefore, this area was subject to the RACT fix-up requirement and the May 15, 1991 deadline.

The MDAQMD portion of the SDMAQMA is classified as severe; ³ therefore, this area was subject to the RACT fix-up requirements and the May 15, 1991 deadline.

³ Southeast Desert Air Quality Management Area retained its designation of nonattainment and was classified by operation of law pursuant to sections 107(d) and 181(a) upon the date of enactment of the CAA. See 55 FR 56694 (November 6, 1991).

The AVAPCD was created pursuant to California Health and Safety Code (CHSC) section 40106 and assumed all air pollution control responsibilities of the South Coast Air Quality Management District in the Antelope Valley region of Los Angeles County, ⁴ effective July 1, 1997. AVAPCD is the successor agency to SCAQMD in the Antelope Valley portion of the Southeast Desert Modified Air Quality Maintenance Area. The AVAPCD remains subject to the RACT requirements.

⁴ The Antelope Valley region of Los Angeles County is contained within the Federal area known as the Southeast Desert Modified Air Quality Management Area and the region identified by the State of California as the Mojave Desert Air Basin.

The State of California submitted many revised RACT rules for incorporation into its SIP on July 23, 1999 and October 29, 1999, including the rules being acted on in this document. This document addresses EPA's direct-final action for AVAPCD Rule 1151, Motor Vehicle and Mobile Equipment Coatings Operations and MDAQMD Rule 1116, Automotive Refinishing Operations. AVAPCD adopted Rule 1151 on July 20, 1999 and MDAQMD adopted Rule 1116 on February 22, 1995 and revised Rule 1116 on April 26, 1999. These submitted rules were found to be complete on December 16, 1999 and August 24, 1999, respectively, pursuant to EPA's completeness criteria that are set forth in 40 CFR part 51 Appendix V ⁵ and is being finalized for approval into the SIP.

⁵ EPA adopted the completeness criteria on February 16, 1990 (55 FR 5830) and, pursuant to section 110(k)(1)(A) of the CAA, revised the criteria on August 26, 1991 (56 FR 42216).

AVAPCD Rule 1151 is a new rule for Antelope Valley. Rule 1151 limits emissions of volatile organic compounds (VOC) and stratospheric ozone-depleting and global warming compounds from coatings applied to Group I or Group II Vehicles and Mobile Equipment. The provisions of this rule apply to all commercial and non-commercial coating applications at facilities involved in the production, modification, or refinishing of motor vehicles and mobile equipment.

MDAQMD Rule 1116 limits emissions of VOC and stratospheric ozone-depleting and global warming compounds from coatings applied to Group I and Group II Vehicles and Mobile Equipment. VOCs contribute to the production of ground level ozone and smog. These rules were originally adopted as part of AVAPCD's and MDAQMD's efforts to achieve the National Ambient Air Quality Standard (NAAQS) for ozone and in response to EPA's SIP-Call and the section 182(a)(2)(A) CAA requirement. The following is EPA's evaluation and final action for these rules.

III. EPA Evaluation and Action

In determining the approvability of a VOC rule, EPA must evaluate the rule for consistency with the requirements of the CAA and EPA regulations, as found in section 110 and part D of the CAA and 40 CFR part 51 (Requirements for Preparation, Adoption, and Submittal of Implementation Plans). The EPA interpretation of these requirements, which forms the basis for today's action, appears in the various EPA policy guidance documents listed in footnote 2. Among those provisions is the requirement that a VOC rule must, at a minimum, provide for the implementation of RACT for stationary sources of VOC emissions. This requirement was carried forth from the pre-amended Act.

For the purpose of assisting state and local agencies in developing RACT rules, EPA prepared a series of Control Technique Guideline (CTG) documents. The CTGs are based on the underlying requirements of the Act and specify the presumptive norms for what is RACT for specific source categories. Under the CAA, Congress ratified EPA's use of these documents, as well as other Agency policy, for requiring States to “fix-up” their RACT rules. See section 182(a)(2)(A). EPA has not yet issued a Control Techniques Guideline (CTG) for this source category, but has on December 30, 1997 amended 40 CFR Part 59, “National Volatile Organic Emission Standards for Consumer and Commercial Products” by adding Subpart E, “National Volatile Organic Compound Emission Standards for Automobile Refinishing Coatings,” 62 FR 67784. This standard regulates the manufacture of automotive coatings and not the application of automobile refinishing coatings. Body shops nationwide are not directly affected by the regulation's requirements. EPA has used the proposed VOC standards for automotive coatings as guidance in evaluating the VOC limits of Rule 1151 and Rule 1116. Further interpretations of EPA policy are found in the Blue Book, referred to in footnote 2. In general, these guidance documents have been set forth to ensure that VOC rules are fully enforceable and strengthen or maintain the SIP.

There is currently no version of AVAPCD Rule 1151, Motor Vehicle and Mobile Equipment Coatings Operations in the SIP. The submitted rule includes the following provisions:

• Limits of 15 pounds per gallon of applied solids for the original production of motor homes;

• Limits emissions of VOCs from coatings applied to Group I and Group II Vehicles and Mobile Equipment;

• Applies to all commercial and non-commercial coating applications at facilities involved in the production, modification, or refinishing of motor vehicles and mobile equipment; and

• Includes test methods to determine compliance.

On June 13, 1995 (60 FR 31081), EPA approved into the SIP a version of MDAQMD Rule 1116, Automotive Refinishing Operations that had been adopted on February 22, 1995. Revisions to this rule were subsequently adopted on April 26, 1999. The submitted Rule 1116 includes the following significant changes from the current SIP:

• Delayed imposition of the 420 grams per liter VOC limit for multistage topcoat systems until July 1, 2000;

• Updated and streamlined VOC definition referencing the most recent federal list of exempt compounds;

• Removed of obsolete limits and language; and

• Specified exemptions to the “Prohibition of Sale” provision.

EPA has evaluated the submitted rules and has determined that they are consistent with the CAA, EPA regulations, and EPA policy. Therefore, AVAPCD Rule 1151, Motor Vehicle and Mobile Equipment Coatings Operations and MDAQMD Rule 1116, Automotive Refinishing Operations are being approved under section 110(k)(3) of the CAA as meeting the requirements of section 110(a) and part D.

EPA is publishing this rule without prior proposal because the Agency views this as a noncontroversial amendment and anticipates no adverse comments. However, in the proposed rules section of this Federal Register publication, EPA is publishing a separate document that will serve as the proposal to approve the SIP revision should adverse comments be filed. This rule will be effective June 9, 2000 without further notice unless the Agency receives adverse comments by May 10, 2000.

If the EPA receives such comments, then EPA will publish a timely withdrawal in the Federal Register informing the public that the rule will not take effect. All public comments received will then be addressed in a subsequent final rule based on the proposed rule. The EPA will not institute a second comment period. Any parties interested in commenting on this rule should do so at this time. If no such comments are received, the public is advised that this rule is effective on June 9, 2000 and no further action will be taken on the proposed rule.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 9, 2000. Filing a petition for reconsideration by the Administrator of this final rule does not affect the finality of this rule for the purposes of judicial review nor does it extend the time within which a petition for judicial review may be filed, and shall not postpone the effectiveness of such rule or action. This action may not be challenged later in proceedings to enforce its requirements.

(See section 307(b)(2).)

List of Subjects in 40 CFR Part 52

Environmental protection, Air pollution control, Hydrocarbons, Incorporation by reference, Intergovernmental relations, Ozone, Reporting and recordkeeping requirements, Volatile organic compounds.

Dated: March 15, 2000.
Felicia Marcus,
Regional Administrator, Region IX.

Part 52, Chapter I, Title 40 of the Code of Federal Regulations is amended as follows:

PART 52—[AMENDED]

1. The authority citation for Part 52 continues to read as follows:

Authority: 42 U.S.C. 7401 et seq.

Subpart F—California

2. Section 52.220 is amended by adding paragraphs (c)(268)(i)(B) and (c)(270)(i)(E) to read as follows:

§ 52.220 Identification of plan.

* * * * *

(c) * * *

(268) * * *

(i) * * *

(B) Mojave Desert Air Quality Management District.

(1) Rule 1116 revised on April 26, 1999.

* * * * *

(270) * * *

(i) * * *

(E) Antelope Valley Air Pollution Control District.

(1) Rule 1151 adopted on July 20, 1999.

* * * * *

[FR Doc. 00-8526 Filed 4-7-00; 8:45 am]

BILLING CODE 6560-50-P